LEGAL SERVICES CORPORATION

Sunshine Act Meeting

DATE AND TIME: The Legal Services Corporation's Board of Directors and its six committees will meet July 20-22, 2017. On Thursday, July 20, the first meeting will commence at 1:30 p.m., Eastern Daylight Time (EDT), with the meeting thereafter commencing promptly upon adjournment of the immediately preceding meeting. On Friday, July 21, the first meeting will commence at 3:00 p.m., EDT, with the next meeting commencing promptly upon adjournment of the immediately preceding meeting. On Saturday, July 22, the first meeting will commence at 8:30 a.m., EDT, and will be followed by the closed session meeting of the Board of Directors which will commence promptly upon adjournment of the prior meeting.

LOCATION: The Cleveland Marriott Downtown at Key Center, 127 Public Square, Cleveland, Ohio 44114.

PUBLIC OBSERVATION: Unless otherwise noted herein, the Board and all committee meetings will be open to public observation. Members of the public who are unable to attend in person but wish to listen to the public proceedings may do so by following the telephone call-in directions provided below.

CALL-IN DIRECTIONS FOR OPEN SESSIONS:

• Call toll-free number: 1-866-451-4981;

• When prompted, enter the following numeric pass code: 5907707348

• When connected to the call, please immediately “MUTE” your telephone.

Members of the public are asked to keep their telephones muted to eliminate background noises. To avoid disrupting the meeting, please refrain from placing the call on hold if doing so will trigger recorded music or other sound. From time to time, the presiding Chair may solicit comments from the public.

Meeting Schedule
| Time *
Thursday, July 20, 2017:
1. Audit Committee | 1:30 p.m.
2. Governance and Performance Committee Meeting
3. Delivery of Legal Services Committee Meeting
Friday, July 21, 2017:
1. Institutional Advancement Committee | 3:00 p.m.
2. Communications Subcommittee Meeting
3. Finance Committee Meeting
4. Operations & Regulations Committee
Saturday, July 22, 2017:
1. Board of Directors | 8:30 a.m.

STATUS OF MEETING: Open, except as noted below.

* Please note that all times in this notice are in Eastern Daylight Time.

Board of Directors—Open, except that, upon a vote of the Board of Directors, a portion of the meeting may be closed to the public to hear briefings by management and LSC's Inspector General, and to consider and act on the General Counsel's report on potential and pending litigation involving LSC,

and on a list of prospective funders.**

Audit Committee—Open, except that the meeting may be closed to the public to hear a briefing on the Office of Compliance and Enforcement's active enforcement matters, and a report on the integrity of electronic data.**

** Any portion of the closed session consisting solely of briefings does not fall within the Sunshine Act's definition of the term “meeting” and, therefore, the requirements of the Sunshine Act do not apply to such portion of the closed session. 5 U.S.C. 552b (a) (2) and (b). See also 45 CFR 1622.2 & 1622.3.

Institutional Advancement Committee—Open, except that the meeting may be closed to the public to discuss recommendation of new prospective donors.**

A verbatim written transcript will be made of the closed session of the Board, Institutional Advancement Committee, and Audit Committee. The transcript of any portions of the closed sessions falling within the relevant provisions of the Government in the Sunshine Act, 5 U.S.C. 552b(c)(6) and (10), will not be available for public inspection. A copy of the General Counsel's Certification that, in his opinion, the closing is authorized by law will be available upon request.

MATTERS TO BE CONSIDERED:

July 20, 2017

Audit Committee

Open Session

1. Approval of agenda

2. Approval of minutes of the Committee's meeting on April 24, 2017

3. Update about Office of Inspector General Audit

• John Seeba, Assistant Inspector General for Audits

4. Management update regarding risk management

• Ron Flagg, General Counsel

5. Briefing regarding follow-up by Office of Compliance and Enforcement on referrals by the Office of Inspector General regarding audit reports and annual Independent Public audits of grantees

• Lora Rath, Director of Compliance and Enforcement

• John Seeba, Assistant Inspector General for Audits

6. Public comment

7. Consider and act on other business

Closed Session

8. Approval of minutes of the Committee's Closed Session meeting of April 24, 2017

9. Briefing by the Office of Compliance and Enforcement on active enforcement matter(s) and follow-up to open investigation referrals from the Office of Inspector

• Lora Rath, Director of Compliance and Enforcement

10. Consider and act on motion to adjourn the meeting

July 20, 2017

Governance and Performance Review Committee

Open Session

1. Approval of agenda

2. Approval of minutes of the Committee's Open Session meeting of April 23, 2017

3. Report on foundation grants and LSC's research agenda

• Jim Sandman, President

4. Report on transition planning

• Ron Flagg, Vice President & General Counsel

• Carol Bergman, Vice President for Government Relations & Public Affairs

5. Other business

6. Public Comment

7. Consider and act on motion to adjourn meeting

July 20, 2017

Delivery of Legal Services Committee

Open Session

1. Approval of agenda

2. Approval of minutes of the Committee's meeting on April 24, 2017

3. Panel Presentation on best practices for language access and serving clients with limited English proficiency (LEP)

• Silvia Argueta, Executive Director, Legal Aid Foundation of Los Angeles

• Colleen Cotter, Executive Director, Legal Aid Society of Cleveland

• Kristi Cruz, Staff Attorney, Northwest Justice Project

• Teri Ross., Program Director, Illinois Legal Aid Online

• Lynn Jennings, Vice President for Grants Management

4. Public comment

5. Consider and act on other business

6. Consider and act on motion to adjourn the meeting

July 21, 2017

Institutional Advancement Committee

1. Approval of agenda

2. Approval of minutes of the Committee's meeting on January 27, 2017

3. Approval of minutes of the Combined Institutional Advancement Committee and the Communications Sub-Committee's Open Session telephonic meeting of April 10, 2017

4. Approval of minutes of the Committee's Open Session meeting of April 24, 2017

5. Update on Leaders Council

• John G. Levi, Chairman

6. Development report

• Nadia Elguindy, Director of Institutional Advancement

7. Public Comment

8. Consider and act on other business

9. Consider and act on motion to adjourn open session meeting and proceed to a closed session

Closed Session

10. Approval of the minutes of the Combined Institutional Advancement Committee and Communications Sub-Committee's Closed Session telephonic meeting on April 10, 2017

11. Approval of the minutes of the Committee's Closed Session meeting of April 24, 2017

12. Development activities report

13. Consider and act on motion to approve Leaders Council invitees list

14. Consider and act on other business

15. Consider and act on motion to adjourn the meeting

July 21, 2017

Communications Subcommittee of the Institutional Advancement Committee

Open Session

1. Approval of agenda

2. Approval of minutes of the Subcommittee's meeting on April 24, 2017

3. Communications analytics update

• Carl Rauscher, Director of Communications and Media Relations

4. Public comment

5. Consider and act on other business

6. Consider and act on motion to adjourn the meeting

Finance Committee

Open Session

1. Approval of agenda

2. Approval of minutes of the Committee's Open Session meeting of April 24, 2017

3. Presentation of LSC's Financial Report for the first eight months of FY 2017

• David Richardson, Treasurer/Comptroller

4. Review of internal budgetary adjustments for FY 2017 Consolidated Operating Budget, Resolution 2017-XXX

• David Richardson, Treasurer/Comptroller

5. Report on the FY 2018 appropriations process

• Carol Bergman, Vice President for Government Relations & Public Affairs

6. Consider and act on Temporary Operating Authority for FY 2018 Resolution 2017-XXX

• David Richardson, Treasurer/Comptroller

7. Public Comment

8. Consider and act on other business

9. Consider and act on adjournment of meeting

July 21, 2017

Operations & Regulations Committee

Open Session

1. Approval of agenda

2. Approval of minutes of the Committee's Open Session meeting on April 23, 2017

3. Approval of minutes of the Committee's Open Session telephonic meeting of May 23, 2017

4. Consider and act on a Final Rule for 45 CFR parts 1600, 1630 and 1631—Costs and Property

• Ron Flagg, Vice President for Legal Affairs, General Counsel and Corporate Secretary

• Mark Freedman, Senior Associate General Counsel

5. Consider and act on a Final Rule for 45 CFR part 1629—Bonding

• Ron Flagg, Vice President for Legal Affairs, General Counsel and Corporate Secretary

• Tyler Ellis, Law Fellow

6. Consider and act on the 2017—2018 Rulemaking Timeline

• Ron Flagg, Vice President for Legal Affairs, General Counsel and Corporate Secretary

7. Report on revised 2018 Grant Terms and Conditions

• Ron Flagg, Vice President for Legal Affairs, General Counsel and Corporate Secretary

• Mark Freedman, Senior Associate General Counsel

8. Public comment

9. Consider and act on other business

10. Consider and act on motion to adjourn meeting

July 22, 2017

Board of Directors

Open Session

1. Pledge of Allegiance

2. Approval of agenda

3. Approval of minutes of the Board's Open Session meeting of April 24, and April 25, 2017

4. Approval of minutes of the Board's Open Session telephonic meeting of May 23, 2017

5. Chairman's Report

6. Members' Report

7. President's Report

8. Inspector General's Report

9. Consider and act on the report of the Audit Committee

10. Consider and act on the report of the Governance and Performance Review Committee

11. Consider and act on the report of the Delivery of Legal Services Committee

12. Consider and act on the report of the Institutional Advancement Committee

13. Consider and act on the report of the Finance Committee

14. Consider and act on the report of the Operations and Regulations Committee

15. Consider and act on Resolution 2017-XXX, in Recognition and Profound Appreciation of Charles N.W. Keckler's Distinguished Service

16. Public Comment

17. Consider and act on other business

18. Consider and act on motion to adjourn the open session meeting and proceed to a closed session

Closed Session

1. Approval of minutes of the Board's Closed Session meeting of April 25, 2017

2. Management briefing

3. Inspector General briefing

4. Consider and act on list of prospective Leaders Council members

5. Consider and act on General Counsel's briefing on potential and pending litigation involving LSC

6. Consider and act on motion to adjourn meeting

CONTACT PERSON FOR INFORMATION: Katherine Ward, Executive Assistant to the Vice President & General Counsel, at (202) 295-1500. Questions may be sent by electronic mail to FR_NOTICE_QUESTIONS@lsc.gov.

NON-CONFIDENTIAL MEETING MATERIALS: Non-confidential meeting materials will be made available in electronic format at least 24 hours in advance of the meeting on the LSC Web site, at http://www.lsc.gov/board-directors/meetings/board-meeting-notices/non-confidential-materials-be-considered-open-session.

ACCESSIBILITY: LSC complies with the American's with Disabilities Act and Section 504 of the 1973 Rehabilitation Act. Upon request, meeting notices and materials will be made available in alternative formats to accommodate individuals with disabilities.

Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: July 10, 2017.
Katherine Ward,
Executive Assistant to the Vice President for Legal Affairs, General Counsel & Corporate Secretary.

[FR Doc. 2017-14767 Filed 7-10-17; 4:15 pm]

BILLING CODE 7050-01-P